POSTAL SERVICE

Privacy Act of 1974; System of Records

AGENCY: Postal Service™.

ACTION: Notice of modification to existing systems of records.

SUMMARY: The United States Postal Service® is proposing to modify one General Privacy Act Systems of Records. These updates are being made to facilitate the implementation of a complex, self-service password and to account for the collection of additional data elements including challenge questions, challenge answers, and optional email addresses to be used in the password reset process.

DATES: These revisions will become effective without further notice on May 12, 2014 unless comments received on or before that date result in a contrary determination.

ADDRESSES: Comments may be mailed or delivered to the Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their amended systems of records in the Federal Register when there is a revision, change, or addition. The Postal Service™ has reviewed these systems of records and has determined that this General Privacy Act System of Records should be revised to modify categories of records in the system and purpose(s).

I. Background

Currently, Postal Service employees use their Postal Service-issued Employee Identification Number (EIN) and personal identification number (PIN) to access data pertaining to them in postal information systems such as PostalEASE, LiteBlue and other sites that they use EINs and PINs to access. To improve protection of employee privacy by strengthening the authentication process for accessing postal information systems, the Postal Service intends to implement a new, complex, self-service password to replace the existing self-service PIN.

II. Rationale for Changes to USPS Privacy Act Systems of Records

The system of records 500.000, Property Management Records, is being modified to account for the collection of an employee's challenge questions, challenge answers, and optionally, email addresses. These elements will be provided by the employee, collected during the initial establishment of the password, and will be used to authenticate the user in any subsequent requests by the user to reset his or her password.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected systems are as follows:

USPS 500.000

SYSTEM NAME:

Property Management Records

Accordingly, for the reasons stated, the Postal Service proposes changes in the existing systems of records as follows:

USPS 500.000

SYSTEM NAME:

Property Management Records

CATEGORIES OF RECORDS IN THE SYSTEM:

* * * * *

[ADD TEXT]

4. Identity verification information: Question, answer, and email address.

* * * * *

[RENUMBER REMAINING TEXT]

PURPOSE:

* * * * *

[ADD TEXT]

4. To authenticate user identity for the purpose of accessing USPS information systems.

* * * * *

[RENUMBER REMAINING TEXT]

* * * * *

Stanley F. Mires,
Attorney, Legal Policy & Legislative Advice.

[FR Doc. 2014-08091 Filed 4-10-14; 8:45 am]

BILLING CODE 7710-12-P